DEPARTMENT OF HEALTH AND HUMAN SERVICES

Centers for Disease Control and Prevention

Disease, Disability, and Injury Prevention and Control Special Emphasis Panel (SEP): Occupational Safety and Health Member Conflict Review, Program Announcement (PA) 07-318

In accordance with section 10(a)(2) of the Federal Advisory Committee Act (Pub. L. 92-463), the Centers for Disease Control and Prevention (CDC) announces the aforementioned meeting.

Time and Date: 1 p.m.-3 p.m., March 18, 2008 (Closed).

Place: National Institute for Occupational Safety and Health, 626 Cochrans Mill Road, Pittsburgh, PA 15236.

Status: The meeting will be closed to the public in accordance with provisions set forth in section 552b(c) (4) and (6), Title 5 U.S.C., and the Determination of the Director, Management Analysis and Services Office, CDC, pursuant to Public Law 92-463.

Matters To Be Discussed: The meeting will include the review, discussion, and evaluation of “Occupational Safety and Health Member Conflict Review, PA 07-318.”

Contact Person for More Information: George Bockosh, Ph.D., Scientific Review Administrator, National Personal Protective Technology Laboratory, National Institute for Occupational Safety and Health, CDC, 626 Cochrans Mill Road, Pittsburgh, PA 15236, Telephone (412) 386-6465.

The Director, Management Analysis and Services Office, has been delegated the authority to sign Federal Register notices pertaining to announcements of meetings and other committee management activities, for both CDC and the Agency for Toxic Substances and Disease Registry.

Dated: February 15, 2008.
Elaine L. Baker,
Director, Management Analysis and Services Office, Centers for Disease Control and Prevention.

[FR Doc. E8-3569 Filed 2-25-08; 8:45 am]

BILLING CODE 4163-18-P